DEPARTMENT OF LABOR

Occupational Safety and Health Administration

29 CFR Parts 1910 and 1926

[Docket No. OSHA-2013-0005]

RIN 1218-AC77

Incorporation by Reference; Accident Prevention Signs and Tags; Correction

AGENCY: Occupational Safety and Health Administration (OSHA), Department of Labor.

ACTION: Correcting amendments.

SUMMARY: This document contains corrections to the final regulations, which were published in the Federal Register of Thursday, June 13, 2013 (78 FR 35559). The regulations update OSHA's general industry and construction signage standards by adding references to the latest American National Standards Institute (ANSI) standards on specifications for accident prevention signs and tags.

DATES: Effective on November 6, 2013.

FOR FURTHER INFORMATION CONTACT: General information and press inquiries: Frank Meilinger, OSHA Office of Communications, Room N-3647, U.S. Department of Labor, 200 Constitution Ave. NW., Washington, DC 20210; telephone: (202) 693-1999; email: meilinger.francis2@dol.gov.

Technical inquiries: Kenneth Stevanus, Directorate of Standards and Guidance, Room N-3609, OSHA, U.S. Department of Labor, 200 Constitution Ave. NW., Washington, DC 20210; telephone: (202) 693-2260; fax: (202) 693-1663; email: stevanus.ken@dol.gov.

SUPPLEMENTARY INFORMATION:

Background

The final regulations that are the subject of these corrections superseded their predecessor regulations in 29 CFR parts 1910 and 1926 on the effective date, and affect employers required to use accident prevention signs and tags under the specified standards.

Need for Correction

As published, the final regulations contain errors that may prove to be misleading and ambiguous references to illustrative figures in incorporated-by-reference ANSI standards. Specifically, the incorporation-by-reference provisions in 29 CFR 1910.6(e)(66) and (e)(67) and 1926.6(h)(28)-(h)(30) misidentify the vendors and locations where the public can purchase the updated ANSI Z535 standards. In addition, the references in 29 CFR 1926.200(b) and (c), “Accident prevention signs and tags,” to figures in ANSI Z535.2-2011 are ambiguous. These references need to be clarified because the figures they denote illustrate sign specifications that employers have the option of following.

List of Subjects in 29 CFR Parts 1910 and 1926

Construction, General industry, Incorporation by reference, Safety, Signs, Tags.

Accordingly, 29 CFR parts 1910 and 1926 are corrected by making the following correcting amendments:

PART 1910—OCCUPATIONAL SAFETY AND HEALTH STANDARDS

Subpart A—General

1. The authority citation for subpart A continues to read as follows:

Authority: 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), or 1-2012 (77 FR 3912), as applicable.

Sections 1910.6, 1910.7, 1910.8 and 1910.9 also issued under 29 CFR 1911. Section 1910.7(f) also issued under 31 U.S.C. 9701, 29 U.S.C. 9a, 5 U.S.C. 553; Public Law 106-113 (113 Stat. 1501A-222); Pub. L. 11-8 and 111-317; and OMB Circular A-25 (dated July 8, 1993) (58 FR 38142, July 15, 1993).

2. In § 1910.6, revise paragraphs (e)(66) and (e)(67) to read as follows:

§ 1910.6 Incorporation by reference.

* * * * *

(e) * * *

(66) ANSI Z535.1-2006 (R2011), Safety Colors, reaffirmed July 19, 2011; IBR approved for §§ 1910.97(a) and 1910.145(d). Copies available for purchase from the:

(i) American National Standards Institute's e-Standards Store, 25 W 43rd Street, 4th Floor, New York, NY 10036; telephone: 212-642-4980; Web site: http://webstore.ansi.org/;

(ii) IHS Standards Store, 15 Inverness Way East, Englewood, CO 80112; telephone: 877-413-5184; Web site: www.global.ihs.com; or

(iii) TechStreet Store, 3916 Ranchero Dr., Ann Arbor, MI 48108; telephone: 877-699-9277; Web site: www.techstreet.com.

(67) ANSI Z535.2-2011, Environmental and Facility Safety Signs, published September 15, 2011; IBR approved for § 1910.261(c). Copies available for purchase from the:

(i) American National Standards Institute's e-Standards Store, 25 W 43rd Street, 4th Floor, New York, NY 10036; telephone: 212-642-4980; Web site: http://webstore.ansi.org/;

(ii) IHS Standards Store, 15 Inverness Way East, Englewood, CO 80112; telephone: 877-413-5184; Web site: www.global.ihs.com; or

(iii) TechStreet Store, 3916 Ranchero Dr., Ann Arbor, MI 48108; telephone: 877-699-9277; Web site: www.techstreet.com.

* * * * *

PART 1926—SAFETY AND HEALTH REGULATIONS FOR CONSTRUCTION

Subpart A—General

3. The authority citation for subpart A continues to read as follows:

Authority: 40 U.S.C. 333; 29 U.S.C. 653, 655, 657; Secretary of Labor's Order No. 12-71 (36 FR 8754), 8-76 (41 FR 25059), 9-83 (48 FR 35736), 6-96 (62 FR 111), 5-2007 (72 FR 31160), 4-2010 (75 FR 55355), or 1-2012 (77 FR 3912), as applicable; and 29 CFR part 1911.

4. In § 1926.6, revise paragraphs (h)(28), (h)(29), and (h)(30) to read as follows:

§ 1926.6 Incorporation by reference.

* * * * *

(h) * * *

(28) ANSI Z535.1-2006 (R2011), Safety Colors, reaffirmed July 19, 2011; IBR approved for § 1926.200(c). Copies available for purchase from the:

(i) American National Standards Institute's e-Standards Store, 25 W 43rd Street, 4th Floor, New York, NY 10036; telephone: 212-642-4980; Web site: http://webstore.ansi.org/;

(ii) IHS Standards Store, 15 Inverness Way East, Englewood, CO 80112; telephone: 877-413-5184; Web site: www.global.ihs.com; or

(iii) TechStreet Store, 3916 Ranchero Dr., Ann Arbor, MI 48108; telephone: 877-699-9277; Web site: www.techstreet.com.

(29) ANSI Z535.2-2011, Environmental and Facility Safety Signs, published September 15, 2011; IBR approved for § 1926.200(b), (c), and (i). Copies available for purchase from the:

(i) American National Standards Institute's e-Standards Store, 25 W 43rd Street, 4th Floor, New York, NY 10036; telephone: 212-642-4980; Web site: http://webstore.ansi.org/;

(ii) IHS Standards Store, 15 Inverness Way East, Englewood, CO 80112; telephone: 877-413-5184; Web site: www.global.ihs.com; or

(iii) TechStreet Store, 3916 Ranchero Dr., Ann Arbor, MI 48108; telephone: 877-699-9277; Web site: www.techstreet.com.

(30) ANSI Z535.5-2011, Safety Tags and Barricade Tapes (for Temporary Hazards), published September 15, 2011, including Errata, November 14, 2011; IBR approved for § 1926.200(h) and (i). Copies available for purchase from the:

(i) American National Standards Institute's e-Standards Store, 25 W 43rd Street, 4th Floor, New York, NY 10036; telephone: 212-642-4980; Web site: http://webstore.ansi.org/;

(ii) IHS Standards Store, 15 Inverness Way East, Englewood, CO 80112; telephone: 877-413-5184; Web site: www.global.ihs.com; or

(iii) TechStreet Store, 3916 Ranchero Dr., Ann Arbor, MI 48108; telephone: 877-699-9277; Web site: www.techstreet.com.

* * * * *

Subpart G—Signs, Signals, and Barricades

5. The authority citation for subpart G continues to read as follows:

Authority: 40 U.S.C. 333; 29 U.S.C. 653, 655, 657; Secretary of Labor's Order No. 12-71 (36 FR 8754), 8-76 (41 FR 25059), 9-83 (48 FR 35736), 3-2000 (65 FR 50017), 5-2002 (67 FR 65008), 5-2007 (72 FR 31159), 4-2010 (75 FR 55355), or 1-2012 (77 FR 3912), as applicable; and 29 CFR part 1911.

6. In § 1926.200, revise paragraphs (b)(1) and (c)(1) to read as follows:

§ 1926.200 Accident prevention signs and tags.

* * * * *

(b) Danger signs. (1) Danger signs shall be used only where an immediate hazard exists, and shall follow the specifications illustrated in Figure 1 of ANSI Z35.1-1968 or in Figures 1 to 13 of ANSI Z535.2-2011, incorporated by reference in § 1926.6.

* * * * *

(c) Caution signs. (1) Caution signs shall be used only to warn against potential hazards or to caution against unsafe practices, and shall follow the specifications illustrated in Figure 4 of ANSI Z35.1-1968 or in Figures 1 to 13 of ANSI Z535.2-2011, incorporated by reference in § 1926.6.

* * * * *

Signed at Washington, DC, on October 30, 2013.
David Michaels,
Assistant Secretary of Labor for Occupational Safety and Health.

[FR Doc. 2013-26338 Filed 11-5-13; 8:45 am]

BILLING CODE 4510-26-P